FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Intermittent Survey of Businesses (FR 1374; OMB No. 7100-0302).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 1374.

Final Approval Under OMB Delegated Authority of the Extension for Three Years, Without Revision, of the Following Information Collection

Collection title: Intermittent Survey of Businesses.

Collection identifier: FR 1374.

OMB control number: 7100-0302.

General description of collection: The FR 1374 survey data are used to gather information to enable the Federal Reserve System to carry out its policy and operational responsibilities. Under the guidance of the Board, Reserve Banks survey business contacts as economic developments warrant. Usually, these voluntary surveys are conducted using an online survey tool, such as Qualtrics, to collect responses by purchasing managers, economists, or other knowledgeable individuals at selected, relevant businesses and occasionally state and local governments. Occasionally, the survey will be conducted via telephone or email as needed. The frequency and content of the questions, as well as the entities contacted, vary depending on developments in the economy. These surveys are conducted to provide Board members and Reserve Bank presidents real-time insights into economic conditions. The Board tailors these survey questions to match current concerns and interests, but they are not meant to supplant the more rigorous, existing economic reporting. The Board collects aggregate responses from the Reserve Banks and then distributes the information to Board members and Reserve Bank presidents.

Frequency: Annual, but it may be conducted up to three times a year depending on developments in the economy.

Respondents: Businesses, and as warranted by economic conditions, state and local governments.

Total estimated number of respondents: 1,500.

Total estimated annual burden hours: 1,125.

Current actions: On July 16, 2025, the Board published a notice in the Federal Register (90 FR 32008) requesting public comment for 60 days on the extension, without revision, of the FR 1374. The comment period for this notice expired on September 15, 2025. The Board did not receive any comments.

Board of Governors of the Federal Reserve System, January 8, 2026.
Erin M. Cayce,
Assistant Secretary of the Board.

[FR Doc. 2026-00388 Filed 1-9-26; 8:45 am]

BILLING CODE 6210-01-P